DEPARTMENT OF ENERGY

Federal Energy Regulatory Commission

[Project No. 178-045]

[Pacific Gas and Electric Company, Kern & Tule Hydro LLC; Notice of Application for Transfer of License and Amendment of License and Soliciting Comments, Motions To Intervene, and Protests

Take notice that the following hydroelectric application has been filed with the Commission and is available for public inspection:

a. Type of Application: Transfer of License and License Amendment.

b. Project No.: 178-045.

c. Date Filed: March 12, 2020.

d. Applicants: Pacific Gas and Electric Company (transferor), Kern & Tule Hydro LLC (transferee).

e. Name of Project: Kern Canyon Hydroelectric Project.

f. Location: The project is located on the Kern River, Kern County, California and occupies 11.26 acres of federal lands located within the Sequoia National Forest and administered by the U.S. Forest Service.

g. Filed Pursuant to: Federal Power Act, 16 U.S.C. 791a-825r.

h. Applicant Contacts: For Transferor: Ms. Annette Faraglia, Chief Counsel, Hydro Generation, Pacific Gas and Electric Company, 77 Beale Street, B30A-3005, San Francisco, CA 94105, phone: (415)-973-7145, Email: annette.faraglia@pge.com and Ms. Stephanie Maggard, Director, Power Generation, Pacific Gas and Electric Company, 245 Market Street, N11E-1136, San Francisco, CA 94105, phone: (415) 973-2812, Email: stephanie.maggard@pge.com.

For Transferee: Ms. Ted S. Sorenson, P.E., Manager, Kern & Tule Hydro LLC, P.O. Box 1855, Idaho Falls, ID 83403, phone: (208) 589-6908, Email: Ted@tsorenson.net and Mr. Miriah R. Elliott, Agent, Kern & Tule Hydro LLC, 498 West 140 South, Ivins, UT 84738, phone: (435) 429-1878, Email: miriah@tsorenson.net.

i. FERC Contact: Mrs. Anumzziatta Purchiaroni, (202) 502-6191 or Anumzziatta.purchiaroni@ferc.gov or Mark Ivy, (202) 502-6156 or mark.ivy@ferc.gov.

j. Deadline for filing comments, motions to intervene, and protests: Within 30 days from the issuance date of this notice.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-178-045. Comments emailed to Commission staff are not considered part of the Commission record.

The Commission's Rules of Practice and Procedure require all intervenors filing documents with the Commission to serve a copy of that document on each person on the official service list for the project. Further, if an intervenor files comments or documents with the Commission relating to the merits of an issue that may affect the responsibilities of a particular resource agency, it must also serve a copy of the document on that resource agency.

k. Description of Transfer and Amendment Request: The applicants request that the Commission transfer the Kern Canyon Hydroelectric Project No. 178 from Pacific Gas and Electric Company (PG&E) to Kern & Tule Hydro LLC (KTH). The applicants also request that the Commission remove from the project an approximately 8.2-mile-long, 70 kilovolt (kV) transmission line that connects the project powerhouse with PG&E's integrated transmission system. The applicants state that the transmission line segment is not used solely to transmit power from the project to the interconnected grid and would remain part of the interconnected transmission system even if the project did not exist. Therefore, the transmission line segment does not qualify as a primary transmission line and does not need to be part of the licensed project. The switchyard adjacent to the powerhouse, as well as an approximately 300-foot-long segment of the 70-kV line running from the project powerhouse to pole 0/1 will remain in the license and will be transferred to KTH. Furthermore, the applicants request that the Commission revise the project boundary to remove 47.5 acres of land which is occupied by the transmission line corridor.

l. In addition to publishing the full text of this document in the Federal Register, the Commission provides all interested persons an opportunity to view and/or print the contents of this document via the internet through the Commission's Home Page (http://ferc.gov) using the eLibrary link. Enter the docket number excluding the last three digits in the docket number field to access the document. Currently, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

m. The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 8, 2020.
Kimberly D. Bose,
Secretary.

[FR Doc. 2020-10324 Filed 5-13-20; 8:45 am]

BILLING CODE 6717-01-P